DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on September 24, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On September 24, 2025, OFAC determined that one or more persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 on the persons identified below.

As a result, the property and interests in property subject to U.S. jurisdiction of the following persons are blocked under the relevant sanctions authorities listed below.

Individuals

1. SAYYED, Sadiq Abbas Habib (a.k.a. “ACOSTA, Jonathan”; a.k.a. “SHARMA, Rakesh”), India; DOB 08 Dec 1985; POB India; nationality India; citizen India; Gender Male; Digital Currency Address—TRX TDFtJtyLPgN3oWUoHh23oJox3T5V5nR11K (individual) [ILLICIT-DRUGS-EO14059].

Designated pursuant to section 1(a)(i) of E.O. 14059 for having engaged in, or attempted to engage in, activities or transactions that have materially contributed to, or pose a significant risk of materially contributing to, the international proliferation of illicit drugs or their means of production.

2. SHAIKH, Khizar Mohammad Iqbal, India; DOB 07 Jul 1991; POB Mumbai, India; nationality India; citizen India; Gender Male (individual) [ILLICIT-DRUGS-EO14059].

Designated pursuant to section 1(a)(i) of E.O. 14059 for having engaged in, or attempted to engage in, activities or transactions that have materially contributed to, or pose a significant risk of materially contributing to, the international proliferation of illicit drugs or their means of production.

Entity

1. KS INTERNATIONAL TRADERS (a.k.a. “KS PHARMACY”), Mumbai, Maharashtra 400095, India; website www.ksinternationalpharmacy.com; Organization Established Date 27 Dec 2022; Tax ID No. 27AAZFK8713F2ZQ (India) [ILLICIT-DRUGS-EO14059] (Linked To: SHAIKH, Khizar Mohammad Iqbal).

Designated pursuant to section 1(b)(iii) of E.O. 14059 for being owned, controlled, or directed by, or having acted or purported to act for or on behalf of, directly or indirectly, Khizar Mohammad Iqbal Shaikh, a person whose property and interests in property are blocked pursuant to E.O. 14059.

Bradley T. Smith,
Director, Office of Foreign Assets Control.

[FR Doc. 2025-19347 Filed 10-1-25; 8:45 am]

BILLING CODE 4810-AL-P